DEPARTMENT OF VETERANS AFFAIRS

Veteran's Advisory Committee on Environmental Hazards, Notice of Meeting

The Department of Veterans Affairs (VA) gives notice under Pub. L. 92-463 (Federal Advisory Committee Act) that a meeting of the Veterans' Advisory Committee on Environmental Hazards will be held on Tuesday and Wednesday, June 3-4 2003, at the Export Import Bank, Lafayette Building, 811 Vermont Avenue, NW., Room 145, Washington, DC 20420. The meeting will convene at 9 a.m. and adjourn at 5 p.m. on both days and is open to the public.

The purpose of the Committee is to provide advice to the Secretary of Veterans Affairs on adverse health effects that may be associated with exposure to ionizing radiation and to make recommendations on proposed standards and guidelines regarding VA benefit claims based upon exposure to ionizing radiation.

The major items on the agenda for both days will be discussions and analyses of medical and scientific papers concerning the health effects of exposures to ionizing radiation. On the basis of their analyses and discussions, the Committee may make recommendations to the Secretary concerning diseases that are the result of exposure to ionizing radiation. The agenda for the second day will include planning future Committee activities and assignment of tasks among the members.

Those who wish to attend should contact Ersie Farber-Collins of the Department of Veterans Affairs, Compensation and Pension Service, 810 Vermont Avenue, NW., Washington, DC 20420, prior to June 3, 2003. Ms. Farber-Collins may also be reached at 202-273-7268.

Members of the public may submit written questions or prepared statements for review by the Committee in advance of the meeting. Submitted material must be received at least five (5) days prior to the meeting and should be sent to Ms. Farber-Collins' attention at the address given above. Those who submit material may be asked to clarify it prior to its consideration by the Committee.

Dated: April 21, 2003.
By Director of the Secretary.
E. Philip Riggin,
Committee Management Officer.

[FR Doc. 03-10492 Filed 4-28-03; 8:45 am]

BILLING CODE 8320-01-M